OFFICE OF PERSONNEL MANAGEMENT

Federal Employees' Group Life Insurance Program; Premium

AGENCY: Office of Personnel Management.

ACTION: Notice.

SUMMARY: The Office of Personnel Management (OPM) is announcing changes in premium rates for certain Federal Employees' Group Life Insurance (FEGLI) categories. These include changes to premium rates for Employee Basic Insurance, Option A (most age bands), Option B (most age bands), Option C (most age bands), and Post-Retirement Basic Insurance. These rates will be effective the first pay period beginning on or after October 1, 2021.

DATES: These rates will be effective the first pay period beginning on or after October 1, 2021.

FOR FURTHER INFORMATION CONTACT: Marthine Mason-Martin, FEGLI@opm.gov, (202) 606-1413.

SUPPLEMENTARY INFORMATION: This notice announces changes to FEGLI Employee Basic, Option A (most age bands), Option B (most age bands), Option C (most age bands), and Post-Retirement Basic Insurance.

FEGLI premium rates are assessed based on Program experience in accordance with FEGLI statutes at 8711(b), 8714a(e), 8714b(e), and 8714c(e), and OPM's Annual FEGLI Rate Review Process. The premium rates in the FEGLI program represent estimates of premium income necessary to pay future expected benefits costs. The rates for all coverage categories are specific to the experience of the FEGLI group and are not based on mortality rates within the general population. Actuarial analysis of changing mortality rates makes periodic premium adjustments necessary.

OPM has completed a study of funding and claims experience within the FEGLI Program. Based on this updated actuarial analysis of actual claims experience, OPM has determined that changes are required to Employee Basic, Option A, Option B, Option C and Post-Retirement Basic Insurance premiums. These changes reflect updated mortality and claims rates from actual program experience within each FEGLI category. The legislative structure of the FEGLI Program assumes that we set premium rates for each age band independently of the other bands so that each age band is financially self-supporting.

We will issue guidance to all agencies for the purpose of counseling employees and we will notify affected annuitants directly via OPM's Office of Retirement Services. The FEGLI premium rates will be maintained on the FEGLI website https://www.opm.gov/healthcare-insurance/life-insurance/.

The new FEGLI premium rates for Basic, Option A, Option B, Option C and the Post-Retirement Basic Option are as follows:

Employee Basic Insurance (per $1,000 of Insurance)
[The premiums for compensationers who are paid every four weeks are two times the biweekly premium.]
| Bi-weekly | Monthly
Employee | $0.1600 | $0.3467
Government | 0.0800 | 0.1733
Total | 0.2400 | 0.5200

Option A (for $10,000 of Insurance)
[The premiums for compensationers who are paid every four weeks are two times the biweekly premium.]
Age band | Bi-weekly | Monthly
<35 | $0.20 | $0.43
35-39 | 0.20 | 0.43
40-44 | 0.30 | 0.65
45-49 | 0.60 | 1.30
50-54 | 1.00 | 2.17
55-59 | 1.80 | 3.90
60+ | 6.00 | 13.00

Option B (per $1,000 of Insurance)
[The premiums for compensationers who are paid every four weeks are two times the biweekly premium.]
Age band | Bi-weekly | Monthly
<35 | $0.02 | $0.043
35-39 | 0.02 | 0.043
40-44 | 0.03 | 0.065
45-49 | 0.06 | 0.130
50-54 | 0.10 | 0.217
55-59 | 0.18 | 0.390
60-64 | 0.40 | 0.867
65-69 | 0.48 | 1.040
70-74 | 0.86 | 1.863
75-79 | 1.80 | 3.900
80+ | 2.88 | 6.240

Option C (per Multiple of Insurance)
[The premiums for compensationers who are paid every four weeks are two times the biweekly premium.]
Age band | Bi-weekly | Monthly
<35 | $0.20 | $0.43
35-39 | 0.24 | 0.52
40-44 | 0.37 | 0.80
45-49 | 0.53 | 1.15
50-54 | 0.83 | 1.80
55-59 | 1.33 | 2.88
60-64 | 2.43 | 5.27
65-69 | 2.83 | 6.13
70-74 | 3.83 | 8.30
75-79 | 5.76 | 12.48
80+ | 7.80 | 16.90

Post-Retirement Basic Insurance for Annuitants
[Monthly rate per $1,000 of insurance]
| Before age 65 | After age 65
75% Reduction | $0.3467 | No cost
50% Reduction | 1.0967 | $0.75
No Reduction | 2.5967 | 2.25

Post-Retirement Basic Insurance for Compensationers
[Withholding every four weeks per $1,000 of insurance.]
| Before age 65 | After age 65
75% Reduction | $0.32 | No cost
50% Reduction | 1.01 | $0.69
No Reduction | 2.39 | 2.07

These rates will be effective the first pay period beginning on or after October 1, 2021. U.S. Office of Personnel Management.

Stephen Hickman,
Deputy Executive Secretary.

[FR Doc. 2021-19475 Filed 9-7-21; 8:45 am]

BILLING CODE 6325-38-P